DEPARTMENT OF COMMERCE

International Trade Administration

[A-552-801]

Certain Frozen Fish Fillets From the Socialist Republic of Vietnam: Extension of Preliminary Results of Eighth Antidumping Duty Administrative Review and New Shipper Reviews

AGENCY: Import Administration, International Trade Administration, Department of Commerce.

SUMMARY: The Department of Commerce (the “Department”) is extending the time limit for the preliminary results of the administrative review, and aligned new shipper reviews, of certain frozen fish fillets (“fish fillets”) from the Socialist Republic of Vietnam (“Vietnam”). These reviews cover the period August 1, 2010, through July 31, 2011.

DATES: Effective Date: April 4, 2012.

FOR FURTHER INFORMATION CONTACT: Paul Walker, AD/CVD Operations, Office 9, Import Administration, International Trade Administration, U.S. Department of Commerce, 14th Street and Constitution Avenue NW., Washington, DC 20230, telephone 202.482.0413.

Background

On October 3, 2011, the Department published in the Federal Register a notice of initiation for the eighth administrative review of the antidumping duty order on fish fillets from Vietnam.¹ On October 3, 2011 the Department published a notice of initiation for the eighth new shipper reviews of the antidumping duty order on fish fillets from Vietnam.² On March 15, 2012 the Department aligned the eighth administrative review with the eighth new shipper reviews of fish fillets from Vietnam.³ The preliminary results of these reviews are currently due no later than May 2, 2012.

¹ See Initiation of Antidumping and Countervailing Duty Administrative Reviews and Requests for Revocation in Part, 76 FR 61076 (October 3, 2011) (“Initiation Notice”).

² See Certain Frozen Fish Fillets from the Socialist Republic of Vietnam: Initiation of New Shipper Reviews, 76 FR 61088 (October 3, 2011).

³ See Memorandum to the File, from Paul Walker, Case Analyst, “Alignment of 8th New Shipper Review of Certain Frozen Fish Fillets from the Socialist Republic of Vietnam with the 8th Administrative Review of Certain Frozen Fish Fillets from the Socialist Republic of Vietnam,” dated March 15, 2012.

Statutory Time Limits

In antidumping duty administrative reviews, section 751(a)(3)(A) of the Tariff Act of 1930, as amended (the “Act”), requires the Department to make a preliminary determination within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit for Preliminary Results of Review

We determine that it is not practicable to complete the preliminary results of these reviews within the original time limit because the Department requires additional time to analyze questionnaire responses, issue supplemental questionnaires, conduct verification, and to evaluate surrogate value submissions.

Therefore, the Department is extending the time limit for completion of the preliminary results of these reviews by 120 days. The preliminary results will now be due no later than August 30, 2012. The final results continue to be due 120 days after the publication of the preliminary results.

We are issuing and publishing this notice in accordance with sections 751(a)(3)(A) and 777(i) of the Act.

Dated: March 26, 2012.
Gary Taverman,
Acting Deputy Assistant Secretary for Antidumping and Countervailing Duty Operations.

[FR Doc. 2012-8116 Filed 4-3-12; 8:45 am]

BILLING CODE 3510-DS-P